DEPARTMENT OF THE INTERIOR

Bureau of Land Management

[LLWY910000 L16100000 XX0000]

Notice of Public Meeting; Wyoming Resource Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) Wyoming Resource Advisory Council (RAC) will meet as indicated below.

DATES: The meeting will be held February 6, 2013, (1:30 p.m. to 5:00 p.m.), February 7, (8:00 a.m. to 5:00 p.m.) and February 8, (8:00 a.m. to noon) 2012.

ADDRESSES: The meeting will be at the High Desert District, Rock Springs Field Office, 280 Highway 191 North, Rock Springs, Wyoming in the Pilot Butte Conference Room.

FOR FURTHER INFORMATION CONTACT: Cindy Wertz, Wyoming Resource Advisory Council Coordinator, Wyoming State Office, 5353 Yellowstone, Cheyenne, WY 82009; telephone 307-775-6014; email wertz@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This 10-member RAC advises the Secretary of the Interior on a variety of management issues associated with public land management in Wyoming.

Planned agenda topics include a tour of the Rock Springs Wild Horse Holding Facility, a discussion of checkerboard land ownership, landscape scale partnerships, invasive weeds, trails and follow up from previous meetings.

On Wednesday, February 6, the meeting will begin at 1:30 p.m. with a tour of the Wild Horse Holding Facility on Lionkol Road. Following the tour, the group will meet at the High Desert District Office Pilot Butte Conference Room.

All RAC meetings are open to the public with time allocated for hearing public comments. On Friday, February 8, there will be public comment period beginning at 8:00 a.m. The public may also submit written comments to the RAC. Depending on the number of persons wishing to comment and time available, the time for individual oral comments may be limited. If there are no members of the public interested in speaking, the meeting will move promptly to the next agenda item.

Dated: January 2, 2013.
Donald A. Simpson,
State Director, Wyoming.

[FR Doc. 2013-00220 Filed 1-8-13; 8:45 am]

BILLING CODE 4310-22-P